DEPARTMENT OF COMMERCE

Office of the General Counsel; Laws or Regulations Posing Barriers to Electronic Commerce

AGENCY: Department of Commerce.

ACTION: Notice, 30-day re-opening of comment period.

SUMMARY: The Department of Commerce, on behalf of the Subgroup on Legal Barriers to Electronic Commerce (“Legal Barriers Subgroup”) of the U.S. Government Working Group on Electronic Commerce, re-opens for an additional 30 days the response period for our request for public comments and suggestions concerning policies, laws or regulations that need to be adapted in order to eliminate barriers to and promote electronic commerce, electronic services, and electronic transactions. The original notice was published on February 1, 2000, with comments to be provided by March 17, 2000 (65 FR 4801).

DATES: Comments are requested by April 24, 2000.

ADDRESSES: Comments may be submitted via the Web at http://www.ecommerce.gov/ebarriers/respond. Alternatively, electronic submissions may be sent as documents attached to E-mail messages addressed to ebarriers@ita.doc.gov. Submissions made as E-mail attachments or submitted on floppy disks should be in WordPerfect, Microsoft Word or ASCII format. Diskettes should be labeled with the name of the party and the name and version of the word processing program used to create the document. Paper submissions may be mailed to the Subgroup on Legal Barriers to Electronic Commerce, U.S. Department of Commerce, 14th Street and Constitution Avenue, NW., Room 2815, Washington DC 20230. If possible, paper submissions should include floppy disks in WordPerfect, Microsoft Word or ASCII format. Except for floppy disks with paper submissions, duplicate copies should not be submitted.

FOR FURTHER INFORMATION CONTACT: Kenneth Clark, phone: 202-482-3843; E-mail kclark@doc.gov.

SUPPLEMENTARY INFORMATION:

Background

The Department of Commerce has determined that it is appropriate to re-open the record for comments concerning the above-described request for public comments for an additional 30-day period in order: (1) To officially accommodate the significant number of comments being filed somewhat beyond the original comment deadline; and (2) to allow a reasonable, but limited, time for interested parties to augment their previous comments, or to file original comments, in light of the comments of other parties, which have been routinely posted on our Web site at http://www.ecommerce.gov/ebarriers/review as soon as practicable after their receipt. Comments filed after April 24, 2000, will not be considered by the Subgroup. Detailed background information concerning the original request for comments is contained in the above-cited Federal Register notice, a copy of which is also posted at http://www.ecommerce.gov/ebarriers/fedreg1. A copy of this notice can be found at http://www.ecommerce.gov/ebarriers/fedreg2.

Publication:

Comments will be published online at http://www.ecommerce.gov/ebarriers/review. Respondents should not submit materials that they do not desire to be made public.

Authority:

Presidential Memorandum, “Facilitating the Growth of Electronic Commerce,” dated November 29, 1999.

Dated: March 21, 2000.
Andrew J. Pincus,
General Counsel, Department of Commerce.

[FR Doc. 00-7404 Filed 3-23-00; 8:45 am]

BILLING CODE 3510-BW-U